DEPARTMENT OF HEALTH AND HUMAN SERVICES

Centers for Disease Control and Prevention

[60Day-21-1277; Docket No. CDC-2020-0109]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on the existing information collection project titled The Childcare Survey of Activity and Wellness (C-SAW) Pilot Study. The pilot study will determine the current practices and policies of early care and education (ECE) providers in four states around nutrition, physical activity, and wellness and will inform the development of a potential national surveillance system.

DATES: CDC must receive written comments on or before December 29, 2020.

ADDRESSES: You may submit comments, identified by Docket No. CDC-2020-0109 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

The Childcare Survey of Activity and Wellness (C-SAW) Pilot Study—Revision—National Center for Chronic Disease Prevention and Health Promotion (NCCDPHP), Centers for Disease Control and Prevention (CDC).

Background and Brief Description

The Centers for Disease Control and Prevention (CDC) works to promote optimal nutrition, physical activity, and wellness in early care and education (ECE) facilities for children 0-5 years of age. Consistent with this mission, and with clear evidence that ECE facilities can impact the habits and preferences of young children, CDC obtained OMB approval (OMB Control No. 0920-1277, Expiration Date 12/31/2020) to conduct a pilot survey to better understand ECE center practices related to nutrition, physical activity, and wellness. CDC was unable to collect the information as planned due to closures of ECE centers because of the COVID-19 pandemic. CDC is requesting an extension of the collection for two years due to the COVID-19 pandemic and its impact on information collection and to collect 10 additional COVID-19 related questions on the survey to understand the impact of COVID-19 on our topic areas of child care center status, nutrition, physical activity and wellness The additional questions are expected to minimally affect burden. These critical data are used to effectively inform state and national programs.

Data collected from this pilot survey will be used to understand the current practices of ECE centers in a representative sample in four states. This initial C-SAW will establish baseline measures of the prevalence of specific practices related to nutrition, physical activity, and wellness in a standard way across states. This baseline will also allow CDC and state partners to better understand ECE center needs and provide opportunities for collaboration and areas for improvement at the state and national levels. Second, the survey will be used to inform the development of a potential national surveillance system enabling states and CDC to track changes over time and obtain data to guide the planning, implementation, and evaluation of national and state obesity prevention efforts.

A sample of approximately 1,200 ECE centers across four states will be recruited to participate in this one-time data collection effort. Each center will receive a recruitment letter introducing the survey, explaining its objectives and the importance of their participation, and instructions for completing the survey. It is anticipated that most responses will be submitted online via the internet. However, paper surveys will be available upon request. Approximately two weeks after the initial recruitment letter is mailed, all sampled centers will receive a reminder postcard. Approximately four weeks after the initial recruitment letter is mailed, non-respondents will be sent another letter along with a hardcopy of the questionnaire.

Participation in this study is completely voluntary and there are no costs to the respondent other than their time. The estimated annualized burden hours is 409. The approval request is for two years.

Estimated Annualized Burden Hours
Type of respondents | Form name | Number of respondents | Number of responses per respondent | Average burden per response (in hours) | Total burden (in hours)
ECE Director or Administrator | Recruitment Letter | 1,140 | 1 | 5/60 | 95
ECE Director or Administrator | Web/Mail Survey | 627 | 1 | 30/60 | 314
Total |  |  |  |  | 409

Jeffrey M. Zirger,
Lead, Information Collection Review Office, Office of Scientific Integrity, Office of the Associate Director for Science, Office of the Director, Centers for Disease Control and Prevention.

[FR Doc. 2020-24230 Filed 10-28-20; 4:15 pm]

BILLING CODE 4163-18-P